DEPARTMENT OF THE INTERIOR

Minerals Management Service

Agency Information Collection Activities: Submitted for Office of Management and Budget (OMB) Review; Comment Request

AGENCY: Minerals Management Service (MMS), Interior.

ACTION: Notice of a revision of a currently approved information collection (OMB Control Number 1010-0104).

SUMMARY: To comply with the Paperwork Reduction Act (PRA) of 1995, we are submitting to OMB for review and approval an information collection request (ICR) titled “Accounting for Comparison (Dual Accounting).” We are also soliciting comments from the public on this ICR.

DATES: Submit written comments on or before January 22, 2002.

ADDRESSES: Submit written comments to the Office of Information and Regulatory Affairs, OMB, Attention: Desk Officer for the Department of the Interior (OMB Control Number 1010-0104), 725 17th Street, NW., Washington, DC 20503. Also, submit copies of your written comments to Carol Shelby, Regulatory Specialist, Minerals Management Service, MS 320B2, P.O. Box 25165, Denver, Colorado 80225. If you use an overnight courier service, MMS's courier address is Building 85, Room A-614, Denver Federal Center, Denver, Colorado 80225. You may also submit your comments at our email address mrm.comments@mms.gov. Include the title of the information collection and the OMB control number in the “Attention” line of your comment. Also include your name and return address. Submit electronic comments as an ASCII file avoiding the use of special characters and any form of encryption. If you do not receive a confirmation that we have received your email, contact Ms. Shelby at (303) 231-3151 or FAX (303) 231-3385.

FOR FURTHER INFORMATION CONTACT: Carol Shelby, Regulatory Specialist, phone (303) 231-3151, FAX (303) 231-3385, or email Carol.Shelby@mms.gov.

SUPPLEMENTARY INFORMATION: Title: Accounting for Comparison (Dual Accounting).

OMB Control Number: 1010-0104.

Bureau Form Number: Form MMS-4410.

Abstract: The Department of the Interior (DOI) is responsible for matters relevant to mineral resource development on Federal and Indian lands and the Outer Continental Shelf (OCS). The Secretary of the Interior (Secretary) is responsible for managing the production of minerals from Federal and Indian lands and the OCS, collecting royalties from lessees who produce minerals, and distributing the funds collected in accordance with applicable laws. The Secretary also has an Indian trust responsibility to manage Indian lands and seek advice and information from Indian beneficiaries. MMS performs the royalty management functions for the Secretary.

MMS regulations at 30 CFR 206.172 require lessees to certify on Form MMS-4410, “Certification for Not Performing Accounting for Comparison (Dual Accounting),” that dual accounting is not required for a specific Indian lease. This is a one-time certification that remains in effect until there is a change in lease status or ownership. In this information collection request, we are asking approval to add to Form MMS-4410 the lessee's reason for not performing dual accounting. The certification and reason for not performing dual accounting will be submitted on new Part A of Form MMS-4410.

MMS regulations also require lessees to elect to perform either actual dual accounting under 30 CFR 206.176 or the alternative methodology for dual accounting under 30 CFR 206.173. Previously, lessees reported the dual accounting election on a monthly basis on Form MMS-2014, Report of Sales and Royalty Remittance. However, in our reengineering initiative, we redesigned and streamlined Form MMS-2014 (OMB Control Number 1010-0140). The revised Form MMS-2014 no longer contains the dual accounting election information. Since we must collect the information, we are requesting approval to revise Form MMS-4410 to include the dual accounting election in a new Part B. Lessees will make the actual or alternative dual accounting election every 2 years or whenever lessees elect alternative dual accounting at the beginning of any month rather than monthly as previously required on Form MMS-2014. By moving the dual accounting election to Part B of Form MMS-4410, we are reducing the reporting burden associated with the dual accounting election from a monthly collection to a biennial collection.

The revised Form MMS-4410, Parts A and B, will consolidate the collection of all dual accounting information on one form. The changes will be effective January 2002 if OMB approves our request.

Responses to this information collection are mandatory for all Indian gas leases (except leases on the Osage Indian Reservation). Proprietary information is requested and protected, and there are no questions of a sensitive nature involved in this collection of information.

Frequency: On occasion.

Estimated Number and Description of Respondents: 370 payors on approximately 2,340 Indian leases.

Estimated Annual Reporting and Recordkeeping “Hour” Burden: 1,000 hours. See the following chart for a breakdown of the burden estimate.

30 CFR Section | Reporting requirement | Burden hours per response | Annual number of responses | Annual burden hours
206.172(b)(1)(ii) | Gas production that you certify on Form MMS-4410, Certification for Not Performing Accounting for Comparison (Dual Accounting), is not processed before it flows into a pipeline with an index but which may be processed later. (New Part A of revised Form MMS-4410) | 4 | 25 | 100
206.173(a)(1) | You may elect to perform the dual accounting calculation according to either § 206.176(a) (called actual dual accounting), or paragraph (b) of this section (called the alternative methodology for dual accounting). (New Part B of revised Form MMS-4410) | 2 | 450 | 900
206.173(a)(2) | You must make a separate election to use the alternative methodology for dual accounting for your Indian leases in each MMS-designated area. (New Part B of revised Form MMS-4410) | See 206.173(a)(1) above.
206.176(b) | If you are required to account for comparison, you may elect to use the alternative dual accounting methodology provided for in § 206.173 instead of the provisions in paragraph (a) of this section. (New Part B of revised Form MMS-4410) | See 206.173(a)(1) above.
206.176(c) | If you do not perform dual accounting, you must certify to MMS that gas flows into such pipeline before it is processed. (New Part A of revised Form MMS-4410) | See 206.172(b)(1)(ii) above.
Total |  |  |  | 1,000

Estimated Annual Reporting and Recordkeeping “Non-hour” Burden: We have identified no “non-hour cost” burden.

Comments: Section 3506(c)(2)(A) of the PRA (44 U.S.C. 3501, et seq.) requires each agency “* * * to provide notice * * * and otherwise consult with members of the public and affected agencies concerning each proposed collection of information * * *.” Agencies must specifically solicit comments to (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 6, 2001, we published a Federal Register notice (66 FR 30480) with the required 60-day comment period announcing that we would submit this ICR to OMB for approval. We received comments from one company. We responded to the comments in our ICR submission for OMB approval. We have posted a copy of the ICR at our Internet web site http://www.mrm.mms.gov/Laws_R_D/FRNotices/FRInfColl.htm. We will also provide a copy of the ICR to you without charge upon request.

If you wish to comment in response to this notice, please send your comments directly to the offices listed under the ADDRESSES section of this notice. OMB has up to 60 days to approve or disapprove the information collection but may respond after 30 days. Therefore, to ensure maximum consideration, OMB should receive your comments by January 22, 2002. The PRA provides that an agency may not conduct or sponsor, and a person is not required to respond to, a collection of information unless it displays a currently valid OMB control number.

Public Comment Policy: We will post all comments received in response to this notice on our Internet web site at http://www.mrm.mms.gov/Laws_R_D/InfoColl/InfoColCom.htm for public review. We also make copies of these comments, including names and home addresses of respondents, available for public review during regular business hours at our offices in Lakewood, Colorado.

Individual respondents may request that we withhold their home address from the record, which we will honor to the extent allowable by law. There may be circumstances in which we would withhold from the record a respondent's identity, as allowable by the law. If you wish us to withhold your name and/or address, you must state this prominently at the beginning of your comments. However, we will not consider anonymous comments. We will make all submissions from organizations or businesses, and from individuals identifying themselves as representatives or officials of organizations or businesses, available for public inspection in their entirety.

MMS Information Collection Clearance Officer: Jo Ann Lauterbach, telephone (202) 208-7744.

Dated: November 30, 2001.
Milton K. Dial,
Acting Associate Director for Minerals Revenue Management.

[FR Doc. 01-31532 Filed 12-20-01; 8:45 am]

BILLING CODE 4310-MR-W